DEPARTMENT OF DEFENSE

Department of the Army; Corps of Engineers

Intent To Prepare an Environmental Impact Statement for the Proposed Construction of Lower Bois d'Arc Creek Reservoir in Fannin County, TX

AGENCY: Department of the Army, U.S. Corps of Engineers, DoD.

ACTION: Notice of Intent.

SUMMARY: The U.S. Army Corps of Engineers, Tulsa District (USACE) has received an application for a Department of the Army Permit under Section 404 of the Clean Water Act (CWA) from the North Texas Municipal Water District (NTMWD) to construct Lower Bois d'Arc Creek Reservoir. In accordance with the National Environmental Policy Act (NEPA) of 1969 (42 U.S.C. 4321 et seq.), the USACE has determined that issuance of such a permit may have a significant impact on the quality of the human environment and, therefore, requires the preparation of an Environmental Impact Statement (EIS).

The USACE intends to prepare an EIS to assess the direct, indirect, and cumulative environmental, social, and economic effects of issuance of a Department of the Army permit under Section 404 of the CWA for discharges of dredged and fill material into waters of the United States (U.S.) associated with the construction of the proposed water supply reservoir. In the EIS, the USACE will assess potential impacts associated with a range of alternatives. The preparation of an EIS begins with a scoping process to determine the issues to be addressed in the EIS.

The NTMWD provides wholesale treated water supply, wastewater treatment, and regional solid waste services to 45 member cities and customers in a service area covering all or parts of Collin, Dallas, Denton, Fannin, Hunt, Kaufman, Rains, and Rockwall Counties in north central Texas. The Lower Bois d'Arc Creek Reservoir, if constructed, would be a non-federal project constructed, owned and operated by NTMWD.

DATES: A Public Scoping Meeting will be held December 8, 2009, from 3 p.m. to 8 p.m.

ADDRESSES: The Public Scoping Meeting location is Fannin County Multi-Purpose Complex, 700 FM 87, Bonham, Texas 75418, approximately 1.5 miles west of Bonham off Highway 56.

FOR FURTHER INFORMATION CONTACT: For further information or questions about the proposed action and EIS, please contact Mr. Andrew R. Commer, Supervisory Regulatory Project Manager, by letter at Regulatory Office, CESWT-RO, U.S. Army Corps of Engineers, 1645 South 101st East Avenue, Tulsa, Oklahoma 74128-4609; by telephone at 918-669-7400; by electronic mail Andrew.Commer@usace.army.mil. For special needs (visual or hearing impaired, Spanish translator, etc.) requests during scoping meetings, please contact Andrew Commer by November 24, 2009.

SUPPLEMENTARY INFORMATION: 1. Description of Proposed Project: The proposed reservoir dam would be located in Bois d'Arc Creek, in the Red River watershed, approximately 15 miles northeast of the town of Bonham, between Farm-to-Market (FM) Road 1396 and FM Road 409, in Fannin County, TX. The proposed project site consists of 17,068 acres. Approximately 38 percent of the project site is cropland, 37 percent is bottomland hardwoods and riparian woodlands. The remaining 25 percent is mostly upland deciduous forest.

The purpose of the proposed project is to impound the waters of Bois d'Arc Creek and its tributaries to create a new 16,641 acre water supply reservoir for NTMWD. Approximately 427 acres would be required for the construction of the dam and spillways. NTMWD has requested the right to impound up to 367,609 acre-feet of water, to produce an estimated firm yield of 126,200 acre-feet of water per year. State population projections show the NTMWD service population to increase from 1.6 million to 3.3 million by 2060. The Lower Bois d'Arc Creek Reservoir would provide a new water supply to help meet this increasing demand.

Lower Bois d'Arc Creek Reservoir Dam would be about 10,400 feet in length and would have a maximum height of about 90 feet. The design top elevation of the embankment would be 553.5′ msl with a conservation pool elevation of 534.0′ msl controlled by a service spillway at elevation 534.0′ msl with a crest length of 150 feet. The service spillway would be located at the right (east) abutment of the dam. Required low-flow releases would be made through a 36-inch diameter low-flow outlet. An emergency spillway would also be located in the right abutment of the dam. The emergency spillway would be a 1,400-foot wide uncontrolled broad crested weir structure with a crest elevation of 541′ msl. This elevation was selected to contain the 100-year storm such that no flow passes through the emergency spillway during this event.

Raw water from the reservoir would be transported by 29 miles of 90-inch pipeline to a proposed water treatment plant near the City of Leonard in southwest Fannin County. To allow the NTMWD the ability to treat water from Lower Bois d'Arc Creek Reservoir at its existing facilities in Wylie, TX, 14 miles of 66-inch pipeline would also extend from the water treatment plant to an outfall on Pilot Grove Creek, a tributary of the East Fork of the Trinity River, to deliver raw water to Lake Lavon, in the Trinity River basin.

Construction of the dam and impoundment of the water within the normal pool elevation of 534′ msl would result in direct fill impact or inundation of approximately 120 acres of perennial streams, 99 acres of intermittent streams, 87 acres of open water, 4,602 acres of forested wetlands, 1,223 acres of herbaceous wetlands, and 49 acres of shrub wetlands.

2. Alternatives: Alternatives available to the USACE are to: (1) Issue the Department of the Army permit; (2) issue the Department of the Army permit with special conditions; or (3) deny the Department of the Army permit. Alternatives available to NTMWD include: (1) Construct Lower Bios d'Arc Creek Reservoir as proposed; (2) construct Lower Bois d'Arc Creek Reservoir as proposed by NTMWD, with modifications; (3) developing or acquiring other water supply sources; or (4) no action. As part of the EIS process, a full range of reasonable alternatives, including the applicant's preferred alternative, will be evaluated.

3. Scoping and Public Involvement: A public notice for the Section 404 CWA permit application was issued on the proposal on October 14, 2008 soliciting comments from federal, state, and local agencies and officials, interested individuals and the general public. The 30-day comment period was extended by 30 days until December 12, 2008 to afford ample opportunity for public and agency comment on this project. A public Scoping Meeting will be held regarding the proposed action to seek public comments on the proposed project and its potential effects to the human environment (See DATES AND ADDRESSES). The USACE will be conducting the public scoping meeting to describe the project, preliminary alternatives, the NEPA compliance process, and to solicit input on the issues and alternatives to be evaluated and other related matters. Written comments for scoping will be accepted until January 9, 2010.

4. Significant Issues: Issues to be given analysis in the EIS are likely to include, but will not be limited to: The effects of the lake on the immediate and adjacent property owners, nearby communities, downstream hydraulics and hydrology, wetlands, surface water quality and quantity, groundwater quality and quantity, geological resources, vegetation, fish and wildlife, federally-listed threatened and endangered species, soils, prime farmland, noise, light, aesthetics, historic and pre-historic cultural resources, socioeconomics, land use, public lands, public roads, air quality, and the effects of construction of related facilities.

5. Cooperating Agencies: The USACE has invited the U.S. Environmental Protection Agency, U.S. Fish and Wildlife Service, U.S. Forest Service, Texas Commission on Environmental Quality, Texas Parks and Wildlife Department, Texas Historical Commission, and Texas Water Development Board to be Cooperating Agencies (CA) in the formulation of the EIS. No decisions have been made on CA status at this time. Regardless of final CA status decisions, these agencies, as well as other federal, tribal, state, and local governmental entities are expected to be involved in the review and comment of the Draft EIS.

6. Additional Review and Consultation: Compliance with other Federal and State requirements that will be addressed in the EIS include, but are not limited to, state water quality certification under Section 401 of the CWA, protection of water quality under the Texas Pollutant Discharge Elimination System, protection of air quality under the Texas Air Quality Act, protection of endangered and threatened species under Section 7 of the Endangered Species Act, and protection of cultural resources under Section 106 of the National Historic Preservation Act.

7. Availability of Draft EIS: The Draft EIS is projected to be available by September 2010. There will be a public comment cycle (a public meeting(s) and opportunity for public hearing) following the release of the Draft EIS.

David A. Manning,
Chief, Regulatory Office.

[FR Doc. E9-27262 Filed 11-12-09; 8:45 am]

BILLING CODE 3720-58-P